DEPARTMENT OF THE INTERIOR

Bureau of Land Management

[ID100 1220MA 024D 252X; DBG071002]

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held November 21, 2006, beginning at 8 a.m. and adjourning at 5 p.m. A field trip is scheduled for the morning hours, departing from the BLM Boise District Offices. Selected recreation areas will be evaluated located in the Owyhee Field Office. The afternoon session will be held at the American Legion-Community Center, Phipps Watson Hall, Marsing, ID. Public comment periods will be held after topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. The agenda and meeting topics will include the following:

• Field Trip to assess selected recreation areas in the Owyhee Field Office;

• Introduction of newly appointed RAC members;

• Review of Action Items from previous RAC meeting;

• Hot Topics;

• Review and discussion of issue papers sent to RAC of planned activities in the District and three Field Offices;

• Subcommittee Reports:

○ OHV & Transportation Management;

○ Sage Grouse Habitat Management;

○ Resource Management Plans (RMPs)

—Bruneau Field Office' Draft RMP-EIS Alternatives

—Update on Draft EIS for the NCA-RMP

○ River and Recreation Management

—Update on new Recreation RAC Subcommittee formation

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM Coordinator as provided above. Expedited publication is requested to give the public adequate notice.

Dated: October 24, 2006.
Jerry L. Taylor,
District Manager.

[FR Doc. E6-18273 Filed 10-30-06; 8:45 am]

BILLING CODE 4310-GG-P